DEPARTMENT OF TRANSPORTATION

Bureau of Transportation Statistics

[Docket Number DOT-OST-XXX-XXXX]

Agency Information Collection Activity: Notice of Request for Approval To Continue To Collect Information: Oil and Gas Industry Safety Data Program

AGENCY: Bureau of Transportation Statistics (BTS), Office of the Assistant Secretary for Research and Technology (OST-R), U.S. Department of Transportation.

ACTION: Notice of request to continue to collect.

SUMMARY: In accordance with the requirements of the Paperwork Reduction Act of 1995, this notice announces the intention of BTS to request the Office of Management and Budget (OMB) to approve the data collection for: Oil and Gas Industry Safety Data. In August 2013, the Bureau of Safety and Environmental Enforcement (BSEE) and BTS signed an Interagency Agreement to develop and implement SafeOCS, a voluntary program for confidential reporting of `near misses' occurring on the Outer Continental Shelf (OCS). The Oil and Gas Industry Safety Data (ISD) program, is a component of BTS's SafeOCS data sharing framework, that provides a trusted, proactive means for the oil and gas industry to report sensitive and proprietary safety information, and to identify early warnings of safety problems and potential safety issues by uncovering hidden, at-risk conditions not previously exposed from analysis of reportable accidents and incidents. Companies participating in the ISD are voluntarily submitting safety data, there is no regulatory requirement to submit such data.

DATES: Written comments should be submitted by December 20, 2021.

ADDRESSES: To ensure that your comments are not entered more than once into the docket, submit comments by only one of the following methods:

• Federal eRulemaking Portal: Go to http://www.regulations.gov and follow the instructions for sending your comments electronically. Docket Number: DOT-OST-XXXX-XXXX.

• Mail: Docket Services, U.S. Department of Transportation, 1200 New Jersey Avenue SE, West Building, Ground Floor, Room W12-140, Washington, DC 20590-0001.

• Hand Delivery: Deliver to mail address above between 9 a.m. and 5 p.m. EST, Monday through Friday, except Federal holidays.

• Fax: (202) 493-2251.

Identify all transmission with “Docket Number DOT-OST-XXXX-XXXX” at the beginning of each page of the document.

Instructions: All comments must include the agency name and docket number for this notice. Paper comments should be submitted in duplicate. The Docket Management Facility is open for examination and copying, at the above address from 9 a.m. to 5 p.m. EST, Monday through Friday, except Federal holidays. If you wish to receive confirmation of receipt of your written comments, please include a self-addressed, stamped postcard with the following statement: “Comments on Docket Number DOT-OST-XXXX-XXXX.” The Docket Clerk will date stamp the postcard prior to returning it to you via the U.S. mail. Please note that all comments received, including any personal information, will be posted and will be publicly viewable, without change, at www.regulations.gov. You may review DOT's complete Privacy Act Statement in the Federal Register published on April 11, 2000 (Volume 65, Number 70; pages 19477-78) or you may review the Privacy Act Statement at www.regulations.gov.

FOR FURTHER INFORMATION CONTACT: Demetra V. Collia, Bureau of Transportation Statistics, Office of the Assistant Secretary for Research and Technology, U.S. Department of Transportation, Office of Statistical and Economic Analysis, RTS-31, E36-302, 1200 New Jersey Avenue SE, Washington, DC 20590-0001; Phone No. (202) 366-1610; Fax No. (202) 366-3383; email: demetra.collia@dot.gov. Office hours are from 8:30 a.m. to 5 p.m., EST, Monday through Friday, except Federal holidays.

Data Confidentiality Provisions: The confidentiality of oil and gas industry safety data information submitted to BTS is protected under the BTS confidentiality statute (49 U.S.C. 6307) and the Confidential Information Protection and Statistical Efficiency Act (CIPSEA), Public Law 115-435, Title III, Foundations for Evidence-Based Policymaking Act of 2018.

In accordance with these confidentiality statutes, only statistical (aggregated) and non-identifying data will be made publicly available by BTS through its reports. BTS will not release to BSEE or any other public or private entity any information that might reveal the identity of individuals or organizations mentioned in failure notices or reports without explicit consent of the respondent and any other affected entities.

SUPPLEMENTARY INFORMATION: The ISD identifies a broader range of data categories to ensure safe performance and appropriate risk management, which adds a learning component to assist the oil and gas industry in achieving improved safety performance. BTS will: Be the repository for the data, analyze and aggregate information given under this program, and publish reports providing identification of potential causal factors and trends or patterns before safety is compromised, and affording continuous improvement by focusing on repairing impediments to safety.

I. The Data Collection

The Paperwork Reduction Act of 1995 (44 U.S.C. chapter 35; as amended) and 5 CFR part 1320 require each Federal agency to obtain OMB approval to initiate an information collection activity. BTS is seeking OMB approval to continue to collect the following new data:

Title: Oil and Gas Industry Safety Data (ISD) Program.

OMB Control Number: XXXX-XXXX.

Type of Review: Approval of data collection. This information collection for oil and gas Industry Safety Data is to ensure the safe performance and appropriate risk management within the oil and gas industry, including but not limited to exploration and production.

Respondents: Oil and gas industry companies involved in the exploration and/or production working in the Gulf of Mexico (GOM). Responsibility for establishing the actual scope and burden for this collection resides with BTS.

Number of Potential Responses: 30.

Estimated Time per Response: 8 hours.

Frequency: Bi-annual.

Total Annual Burden: 480 hours.

Abstract: The Confidential Information Protection and Statistical Efficiency Act (CIPSEA) of 2018 (Pub. L. 115-435 Foundations for Evidence-Based Policymaking Act of 2018, Title III), can provide strong confidentiality protection for information acquired for statistical purposes under a pledge of confidentiality. CIPSEA Guidance from the Office of Management and Budget advises that a non-statistical agency or unit (BSEE) that wishes to acquire information with CIPSEA protection, may consider entering an agreement with a Federal statistical agency or unit (BTS). BTS and BSEE have determined that it is in the public interest to collect, and process ISD reports and any other data deemed necessary to administer the Oil and Gas Industry Safety Data Program under a pledge of confidentiality to promote a culture of safety, and for statistical purposes only.

Working with subject matter experts, BTS will then aggregate and further analyze these reports to identify potential causal factors and trends. All data reviewers would be subject to non-disclosure requirements and training mandated by CIPSEA. The results of these aggregated analyses will be distributed by BTS through public reports, workshops, and other forms. Periodic industry workshops may be scheduled by BSEE/industry to discuss the data analysis and trend results, as well as share ideas and process improvements for preventing recurrence.

II. Background

The goal of the Oil and Gas Industry Safety Data program is to provide BTS with essential information about accident precursors and other hazards associated with the Outer Continental Shelf (OCS) oil and gas operations including but not limited to exploration and production (E&P.) This program collects voluntarily reported safety data.

A related goal of the ISD is to provide a mechanism whereby participating companies can submit safety data in whatever format they currently use to minimize incremental effort on the company's part. To realize the optimum benefits from an industrywide framework, all organizations associated with offshore E&P operations (operators, contractors, subcontractors, suppliers/OEMs) and/or regulatory agencies are encouraged to submit data voluntarily.

BTS conducted an Industry Safety Data (ISD) program pilot, in 2017-2018 with data from 2014 through 2017 with representatives from nine companies, which included seven operators, one drilling contractor and one service company. Within this program, all companies working in the Gulf of Mexico (GOM) joining the ISD would submit data for safety events occurring after January 1, 2018. During the pilot, a Phase I Planning Team, formed by BTS, consisted of representatives from the pilot companies working in the GOM who expressed interest in participating as early implementers for the suggesting enhancements to the SafeOCS program. This team discussed the type of data that should be submitted to ensure the data captured has appropriate learning value. The scope of data reported includes incidents, near misses, stop work events, and associated metadata for the period 2014 through 2017. The aggregated data was reviewed and analyzed, and the results were shared with the public in a report was released in 2019.

The value proposition of the ISD program is its focus on the continual improvement in safety performance, and its implementation of lessons learned from incidents and events that occur within the oil and gas industry. This is particularly important for major hazards and associated prevention/mitigation barriers. Several key aspects of this effort include:

• Continue efforts to build and maintain a central repository for collection, collaboration, and sharing of learnings of safety-related data,

• Identifying the type of data that will provide valuable information,

• Gaining alignment on incident and indicator definitions,

• Continuing to maintain a secure process for collection and analysis of the data,

• Implementing a robust methodology for identifying systemic issues,

• Disseminating the results to stakeholders who can then take actions to reduce or eliminate the risk of recurrence through greater barrier integrity,

• Providing opportunities for stakeholders to network and benchmark performance, both individually and as an organization, and

• Setting up a framework wherein adverse actions cannot legally be taken against data submitters nor can raw data be used for regulatory development purposes.

One other related goal of the ISD program is to provide a mechanism whereby participating companies can submit safety data in whatever format they currently use to minimize incremental effort on the company's part.

One of the key benefits associated with submitting safety data directly to BTS for aggregation and review, is that it addresses concerns related to protection of the data source. SafeOCS, including the ISD, operates under a Federal law, the Confidential Information Protection and Statistical Efficiency Act of 2002 (CIPSEA), which requires the program to protect the identity of the reporter and treat reports confidentially. Information submitted under CIPSEA is also protected from release to other government agencies, Freedom of Information Act (FOIA) requests, and subpoena. Even regulatory agencies such as BSEE cannot have access to the identity of those submitting reports under the program. In addition, the information from individual records cannot be used for enforcement purposes. CIPSEA is subject to strict criminal and civil penalties for noncompliance.

Once data are aggregated, BTS will analyze safety data reports submitted by companies involved in OCS activities. BTS will also work with subject matter experts to further analyze these reports to identify potential causal factors and trends. The results of these aggregated analyses will be distributed by BTS through public reports. Industry workshops may then be scheduled to allow operators, service companies, drilling contractors, regulators, and other stakeholders to discuss the results and share lessons learned.

This data collection provides participating members within the oil and gas industry, a trusted means to report sensitive proprietary and safety information related to operations in the OCS, and to foster trust in the confidential collection, handling, and storage of the raw data. BTS uses the data collected to build a comprehensive source of safety related data for statistical purposes. With input from subject matter experts, information on incidents, near misses, stop work events, and associated metadata are analyzed, and results of such analyses are published. These reports provide the industry, all OCS stakeholders, and BSEE with essential information about critical safety issues for offshore operations and production.

BTS will also establish a Disclosure Review Board to review reports and other data products produced by the Data Review Team in accordance with CIPSEA disclosure requirements, with expected compliance principles and practices of a statistical agency. A senior level review of reports prior to publication will be conducted by a Senior Review Board, that may include representatives from key government agencies, wherein all members of this review board are designated as Agents under CIPSEA. The BTS Director or Deputy Director will review all analyses and reports, and issue approval for publication. While BTS's direct involvement will end after the aggregated trends report is published, the ISD program may form a committee to address the analytical findings.

III. Request for Public Comment

BTS requests comments on any aspects of this information collection request, including: (1) Ways to enhance the quality, usefulness, and clarity of the collected information; and (2) ways to minimize the collection burden without reducing the quality of the information collected, including additional use of automated collection techniques or other forms of information technology.

Demetra V. Collia,
Director, Office of Safety Data and Analysis, Bureau of Transportation Statistics, Office of the Assistant Secretary for Research and Technology, U.S. Department of Transportation.

[FR Doc. 2021-22280 Filed 10-20-21; 8:45 am]

BILLING CODE 4910-9X-P